COMMITTEE FOR PURCHASE FROM PEOPLE WHO ARE BLIND OR SEVERELY DISABLED

Procurement List Addition

AGENCY: Committee for Purchase From People Who Are Blind or Severely Disabled.

ACTION: Addition to the Procurement List.

SUMMARY: This action adds a service to the Procurement List that will be provided by a nonprofit agency employing persons who are blind or have other severe disabilities.

DATES: Effective Date: 11/17/2014

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Addition

On 3/28/2014 (79 FR 17509-17510), the Committee for Purchase From People Who Are Blind or Severely Disabled published notice of proposed addition to the Procurement List.

After consideration of the material presented to it concerning capability of qualified nonprofit agency to provide the service and impact of the addition on the current or most recent contractors, the Committee has determined that the service listed below is suitable for procurement by the Federal Government under 41 USC 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing a small entity to provide the service to the Government.

3. There are no known regulatory alternatives which would accomplish the objectives of the Javits-Wagner-O'Day Act (41 USC 8501-8506) in connection with the service proposed for addition to the Procurement List.

End of Certification

Accordingly, the following service is added to the Procurement List:

SERVICE

Service Type/Location: 3d Party Logistics Service Product Manager Force Sustainment Systems, 15 Kansas Street, Natick, MA

NPA: ReadyOne Industries, Inc., El Paso, TX

Contracting Activity: Dept of the Army, W6QK ACC-APG Natick, Natick, MA

Comments were received from two commercial contractors. The contractors assert that the Committee's notice of proposed addition was vague and lacked specificity; therefore, the Committee could not have properly assessed the impact on the contractors' firms. One contractor questioned whether the project would create employment for people with significant disabilities.

The notice of proposed addition listed the service type as “3d Party Logistics Service” and was further described as: “Provide contract management services and Warehousing and Supply Chain Management (Integration, Warehousing, and Refurbishment).” The Department of the Army, Army Contracting Command-Aberdeen Proving Ground (Natick Contracting Division), often referred to as Natick or NCD, is the contracting activity in support of the requirements of Product Manager Force Sustainment System (PMFSS).

“3d Party Logistics” (3PL) is a common, well-defined commercial service provided by multiple commercial companies to many Government agencies, including the Department of Defense (DOD). While 3PL is a recognized service, the Committee's notice of proposed addition included substantial additional explanation and description of the specific service requirements. Consequently, the Committee disagrees that the notice is vague and lacks specificity, and finds that the notice effectively describes the requirements the AbilityOne nonprofit agency will perform.

In accordance with Committee regulations, Federal contracting activities assist the Committee to identify necessary products and services that are suitable for procurement by the Government and may be furnished by AbilityOne nonprofit agencies. In doing so, contracting activities define their specific contract requirements and inform the Committee if there is a contractor providing the product or service. When deliberating on a proposed PL addition, the Committee then considers whether a proposed addition would likely have a severe adverse financial impact on the current contractor for the project.

Both contractors that submitted comments are awardees of the Defense Logistics Agency (DLA) Special Operational Equipment Tailored Logistics Support (SOE TLS) contract to provide a range of commercial products and equipment to military customers. They claim the addition of the proposed 3PL service to the Procurement List could result in severe adverse financial impact to their sales under the DLA SOE TLS contract.

In response to the comments, the Committee sought additional information from the contracting activity and the contactors, to ensure that appropriate information was fully considered. In its response, the Army contracting activity clearly stated it does not currently contract for the 3PL services as described in the statement of work (SOW). The contracting activity stated that through the SOW, it is seeking a complete one-stop standardized and centralized solution to address reduced budget and personnel capacity within PM FSS. DLA's solicitation for the SOE TLS states it is an indefinite delivery-indefinite quantity (IDIQ) contract for equipment and ancillary services. This Procurement List addition of the 3PL requirement is a firm-fixed price contract for services explicitly identified in the SOW, including direct labor services, as is appropriate for a 3PL requirement; it is not an IDIQ contract for products and equipment. Based on these facts, the Army and the Commission concluded that the DLA prime vendor contract and the Natick contract requirements for 3PL services in this proposed PL addition are not the same. For these reasons, the contracting activity confirmed in writing and the Commission concluded that there is no current contractor providing the specific services included in the proposed PL addition.

The commercial contractors are experienced DOD vendors. One contractor's annual revenues exceed the range of revenues that the Committee determines could result in severe adverse financial impact on that contractor if the service is added to the PL. Although the Committee requested information from the contractors, they were unable to provide any contract data demonstrating they were the current contractor to the Army contracting activity (or another contracting activity) for the 3PL services required in this addition. The Committee reviews the level of impact on the “current contractor for the specific commodity or services” [41 CFR 51-2.4(a)(4)(i)]. The contractors in question are not current contractors for the specific service requirement; therefore, under Committee regulations, the Committee finds there is no severe adverse impact on the contractors. Further, the contractors continue to have the opportunity to sell products and equipment under the DLA SOE TLS prime vendor program.

One contractor also questioned whether the project would create employment for people with severe disabilities by referring to a prior project that was deleted from the PL. The Committee conducts a deliberative review of specific proposed addition projects. To qualify for addition to the PL, the Committee must determine that the record for this project demonstrates that it has the potential to generate employment for people who are blind or significantly disabled [41 CFR 51-2.4(a)(1)]. In their review, the Committee determined that the record supports that the 3PL services will create employment for people with significant disabilities. The record specifies the amount of direct labor hours to be provided by people with significant disabilities and discusses referral sources for these individuals, including current or previous nonprofit agency employees with the skills to perform the proposed new positions.

Accordingly, after full consideration, the Committee concluded that the 3PL Service is suitable for addition to the Procurement List.

Barry S. Lineback,
Director, Business Operations.

[FR Doc. 2014-24720 Filed 10-16-14; 8:45 am]

BILLING CODE 6353-01-P